FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of section 3, Public Law 89-777 (46 App. U.S.C. 817(e)) and the Federal Maritime Commission's implementing regulations at 46 CFR Part 540, as amended:

Carnival PLC (trading as P & O Cruises) and Princess Cruise Lines, Ltd., 24305 Town Center Drive, Santa Clarita, CA 91355, Vessel: Artemis, Arcadia.

Royal Caribbean Cruises Ltd. (d/b/a Royal Caribbean International), 1050 Caribbean Way, Miami, FL 33132-2096, Vessel: Freedom of the Seas II, Freedom of the Seas III.

Dated: November 4, 2005.
Bryant L. VanBrakle,
Secretary.

[FR Doc. 05-22368 Filed 11-8-05; 8:45 am]

BILLING CODE 6730-01-P